DEPARTMENT OF HEALTH AND HUMAN SERVICES

Centers for Disease Control and Prevention

[60Day-07-06BP]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Outcomes Data Collection of the National Prevention Information Network—New—National Center for HIV, STD, and TB Prevention (NCHSTP), Centers for Disease Control and Prevention (CDC).

Background and Brief Description

The National Center for HIV, STD, and TB Prevention (NCHSTP) within the Centers for Disease Control and Prevention (CDC) proposes a survey data collection to assess the CDC National Prevention Information Network's (NPIN) Web site, products and services. The CDC NPIN serves as the U.S. reference, referral, and distribution service for information on HIV/AIDS, STDs, TB and viral Hepatitis. Products and services offered by the CDC NPIN Web site is the primary channel used by the CDC to provide information concerning prevention, treatment, and care of HIV, STD, TB, and viral Hepatitis to its prevention partners, stakeholders, and other constituents.

The CDC NPIN Web site includes several searchable databases that can be used to locate information about testing centers, funding opportunities, upcoming conferences, educational materials, and news. The Web site is a widely used service by the public, with more than 24 million hits and 2 million visits recorded annually. Following enhancements to the Web site completed in February 2006, 5,214,286 hits have already been recorded from February to May 2006. In addition to the Web site, consumers can access information and order materials and resources by phone using the NPIN toll-free reference and referral line or electronic mail system. As of June 29, 2006, 82,599 organizations have ordered materials and resources using this system. Cumulatively, over 49,209 requests for materials have been logged and 3,846,890 materials have been ordered by the public.

The primary purposes of the proposed data collection are to assess CDC NPIN users' satisfaction and perceived quality with the Web site, products, and services; determine the extent to which the users' needs are being met; and identify how the Web site, products, and services can be enhanced to meet the needs of the user. Specifically, the evaluation will examine (1) perceived quality, (2) user expectations, satisfaction, and trust, (3) frequency of use, and (4) other sources of information used related to the treatment and prevention of HIV/AIDS, STDs, TB, and viral Hepatitis.

The evaluation will be accomplished by survey data collection from users of the CDC NPIN Web site and users of CDC NPIN products and services. The first survey will be conducted annually with a random sample of CDC NPIN Web site users. Users that visit the CDC NPIN Web site for 2 or more minutes will be prompted to complete and submit the survey online. The second survey will be conducted online bi-annually with a random sample of users of CDC NPIN products and services, stratified by type of organization. Organizations that do not have access to the Internet will have the option to complete the survey via electronic mail or will be administered the survey by phone.

Respondents include representatives from government agencies, community-based organizations, advocacy organizations, and various other organizations involved in the prevention and/or treatment of HIV/AIDS, STDs, TB, and/or viral Hepatitis. An OMB Clearance determination was conducted prior to preparing this package.

The estimated annualized burden is provided in the following table. To assess the average burden per response for the data collection, a pilot test was conducted with no more than 9 participants for each survey. As indicated in the table, the average burden per response for the NPIN Web site User survey is 13 minutes and for the NPIN Products and Services User survey, 15 minutes. This differential is due to the difference in survey lengths. The NPIN Web site User survey is comprised of 25 questions and the NPIN Products and Services User survey is comprised of 28 questions. The “Other” category of respondents is comprised of organizations that identified themselves as “Other” or “Unknown” when requesting products or services from NPIN. There is no cost to the respondents other than their time.

Estimated Annualized Burden Hours
Form | Respondents | Number of respondents | Number of responses per respondent | Average burden per response (in hours) | Total burden hours
NPIN Web site User Survey | All organizations | 1,437 | 1 | 13/60 | 311
Subotal |  | 1,437 |  |  | 311
NPIN Products and Services User Survey | Social service organization | 224 | 2 | 15/60 | 112
| Health services organization/hospital/clinic | 680 | 2 | 15/60 | 340
| Community-based organization | 291 | 2 | 15/60 | 146
| Association/foundation | 52 | 2 | 15/60 | 26
| Libraries/clearinghouse/resource center | 40 | 2 | 15/60 | 20
| Faith-based organization | 133 | 2 | 15/60 | 67
| Government agency | 352 | 2 | 15/60 | 176
| Educational organization/institution | 671 | 2 | 15/60 | 336
| International agency | 85 | 2 | 15/60 | 43
| Correctional facilities/agency | 85 | 2 | 15/60 | 43
| News/media | 32 | 2 | 15/60 | 16
| Businesses/corporation | 101 | 2 | 15/60 | 51
| General public | 394 | 2 | 15/60 | 197
| Other | 1,437 | 2 | 15/60 | 719
Subtotal |  | 4,577 |  |  | 2,292
Total |  | 6,014 |  |  | 2,603

Dated: October 23, 2006.
Joan F. Karr,
Acting Reports Clearance Officer, Centers for Disease Control Prevention.

[FR Doc. E6-18013 Filed 10-26-06; 8:45 am]

BILLING CODE 4163-18-P